DEPARTMENT OF TRANSPORTATION

Federal Aviation Administration

14 CFR Part 39

[Docket No. FAA-2026-0023; Project Identifier AD-2025-00427-T]

RIN 2120-AA64

Airworthiness Directives; The Boeing Company Airplanes

AGENCY: Federal Aviation Administration (FAA), DOT.

ACTION: Notice of proposed rulemaking (NPRM).

SUMMARY: The FAA proposes to supersede Airworthiness Directive (AD) 2018-11-14, which applies to certain The Boeing Company Model 767-300 and -300F series airplanes. AD 2018-11-14 requires high frequency eddy current (HFEC) inspections for cracking of the lower outboard wing skin, and repair or modification if necessary. AD 2018-11-14 also requires one of three follow-on actions: Repeating the HFEC inspections, modifying certain internal stringers and oversizing and plugging the existing fastener holes of the lower wing or modifying the external doubler/tripler and doing repetitive post-modification inspections. Since the FAA issued AD 2018-11-14, it was determined that, for certain airplanes, the area of the lower wing skin in the vicinity of the critical inboard end fasteners of installed repair doublers must be inspected. In addition, it was determined that airplanes who have installed Supplemental Type Certificate (STC) ST01920SE and removed the STC winglets are also affected by the unsafe condition. This proposed AD would continue to require the actions in AD 2018-11-14, add airplanes to the applicability who have installed STC ST01920SE and removed the STC winglets, and, for certain airplanes, would require repetitive internal and external HFEC inspections of the lower outboard wing skin common to the external doubler repair at stringer L-9.5 and repair if necessary. The FAA is proposing this AD to address the unsafe condition on these products.

DATES: The FAA must receive comments on this proposed AD by March 12, 2026.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2026-0023; or in person at Docket Operations between 9 a.m. and 5 p.m., Monday through Friday, except Federal holidays. The AD docket contains this NPRM, any comments received, and other information. The street address for Docket Operations is listed above.

Material Incorporated by Reference:

• For Aviation Partners Boeing material identified in this proposed AD, contact Aviation Partners Boeing, 2811 South 102nd St., Suite 200, Seattle, WA 98168; telephone 206-830-7699; email certification@aviationpartners.com; website aviationpartnersboeing.com.

• You may view this material at the FAA, Airworthiness Products Section, Operational Safety Branch, 2200 South 216th St., Des Moines, WA. For information on the availability of this material at the FAA, call 206-231-3195.

FOR FURTHER INFORMATION CONTACT: Sarah Illg, Aviation Safety Engineer, FAA, 3960 Paramount Boulevard, Lakewood, CA 90712; phone: 206-231-3517; email: Sarah.A.Illg@faa.gov.

SUPPLEMENTARY INFORMATION:

Comments Invited

The FAA invites you to send any written relevant data, views, or arguments about this proposal. Send your comments using a method listed under the ADDRESSES section. Include “Docket No. FAA-2026-0023; Project Identifier AD-2025-00427-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Sarah Illg, Aviation Safety Engineer, FAA, 3960 Paramount Boulevard, Lakewood, CA 90712; phone: 206-231-3517; email: Sarah.A.Illg@faa.gov. Any commentary that the FAA receives that is not specifically designated as CBI will be placed in the public docket for this rulemaking.

Background

The FAA issued AD 2018-11-14, Amendment 39-19302 (83 FR 25885, June 5, 2018) (AD 2018-11-14), for certain The Boeing Company Model 767-300 and -300F series airplanes. AD 2018-11-14 was prompted by reports of fatigue cracking in the lower outboard wing skin at the inboard fastener of stringer L-9.5, and the lower outboard wing skin of stringer L-6.5, on airplanes with winglets installed per STC ST01920SE. AD 2018-11-14 requires HFEC inspections for cracking of the lower outboard wing skin, and repair or modification if necessary. AD 2018-11-14 also requires one of three follow-on actions: Repeating the HFEC inspections, modifying certain internal stringers and oversizing and plugging the existing fastener holes of the lower wing, or modifying the external doubler/tripler and doing repetitive post-modification inspections. The FAA issued AD 2018-11-14 to prevent fatigue cracking in the lower outboard wing skin, which could result in failure and subsequent separation of the wing and winglet and consequent reduced controllability of the airplane.

Actions Since AD 2018-11-14 Was Issued

Since the FAA issued AD 2018-11-14, an operator found cracks in the lower wing skin during a post-repair inspection of an affected airplane. The post-repair inspection was an external surface HFEC inspection and was not mandated by AD 2018-11-14, which refers to Aviation Partners Boeing Service Bulletin AP767-57-010, Revision 11, dated April 3, 2017, as the appropriate source of service information for accomplishing certain inspections. The area of the lower wing skin in the vicinity of the critical inboard end fasteners of previously installed repair doublers, approved by the Boeing Commercial Airplanes Organization Designation Authorization (ODA) and prior to the issuance of the Aviation Partners Boeing Service Bulletin AP767-57-010, Revision 11, dated April 3, 2017, was inadvertently omitted from the internal HFEC inspection, for Group 3 airplanes, specified in Aviation Partners Boeing Service Bulletin AP767-57-010, Revision 11, dated April 3, 2017, and could result in the inadequate opportunity of crack detection at the critical fasteners. The FAA determined that, for certain airplanes, the area of the lower wing skin in the vicinity of the critical inboard end fasteners of installed repair doublers must be inspected in order to address the unsafe condition.

Aviation Partners Boeing issued Service Bulletin AP767-57-010, Revision 14, dated November 17, 2025, to add the inspections at the critical inboard end fasteners of installed repair doublers for Group 3 airplanes, and add one additional airplane to the list of affected Group 3 airplanes.

In addition, the FAA determined that airplanes that have ever been modified by STC ST01920SE are affected by the unsafe condition but not all airplanes that were modified by STC ST01920SE were identified in the applicability of AD 2018-11-14. AD 2018-11-14 identified airplanes “with Aviation Partners Boeing winglets installed; as identified in Aviation Partners Boeing Service Bulletin AP767-57-010, Revision 11, dated April 3, 2017; and Aviation Partners Boeing Service Bulletin AP767-57-014, Revision 1, dated April 12, 2017. However, operators who have modified their airplanes via STC ST01920SE and have removed the STC winglets are also applicable.

Although the “Effectivity” of Aviation Partners Boeing Service Bulletin AP767-57-010, Revision 11, dated April 3, 2017; and Aviation Partners Boeing Service Bulletin AP767-57-014, Revision 1, dated April 12, 2017, only specify “airplanes with blended winglets,” the bulletins also apply to the Group 1, 2, and 3 airplanes who have installed STC ST01920SE and removed the STC winglets. The FAA has revised the applicability of this proposed AD to refer to new Aviation Partners Boeing service bulletins that have updated effectivity statements that clarify all airplanes with STC ST01920SE are affected and must do applicable actions to address the unsafe condition.

FAA's Determination

The FAA is issuing this NPRM after determining that the unsafe condition described previously is likely to exist or develop on other products of the same type design.

Material Incorporated by Reference Under 1 CFR Part 51

The FAA reviewed Aviation Partners Boeing Service Bulletin AP767-57-010, Revision 14, dated November 17, 2025. This material specifies procedures, for Group 1 and 2 airplanes, for an HFEC inspection for cracking of the external surface of the lower outboard wing skin at stringer L-9.5, and on-condition actions that include repetitive HFEC inspections, modification by oversizing and plugging the existing fastener holes of the wing skin, repair (modification) of the stringer with new stringer, and repair (modification) of the stringer with external doubler/tripler; repetitive post-repair inspections for cracking, and repair. This material also specifies procedures, for Group 3 airplanes, for repetitive internal and external HFEC inspections of the lower outboard wing skin common to the external doubler repair at stringer L-9.5 and repair. In addition, the effectivity of Aviation Partners Boeing Service Bulletin AP767-57-010, Revision 14, dated November 17, 2025, was revised to specify airplanes provisioned for blended winglets modified in accordance with STC ST01920SE, with or without winglets installed.

The FAA also reviewed Aviation Partners Boeing Service Bulletin AP767-57-014, Revision 3, dated November 17, 2025. This material does not change the procedures but does change the effectivity to specify airplanes provisioned for blended winglets modified in accordance with STC ST01920SE, with or without winglets installed.

This proposed AD would also require Aviation Partners Boeing Service Bulletin AP767-57-010, Revision 11, dated April 3, 2017; and Aviation Partners Boeing Service Bulletin AP767-57-014, Revision 1, dated April 12, 2017, which the Director of the Federal Register approved for incorporation by reference as of July 10, 2018 (83 FR 25885, June 5, 2018).

This material is reasonably available because the interested parties have access to it through their normal course of business or by the means identified in the ADDRESSES section.

Proposed AD Requirements in This NPRM

This proposed AD would retain all of the requirements of AD 2018-11-14, add airplanes that have ever been modified by STC ST01920SE and removed the STC winglets to the applicability, and for certain airplanes, would require repetitive internal and external HFEC inspections of the lower outboard wing skin common to the external doubler repair at stringer L-9.5 and repair if necessary.

Costs of Compliance

The FAA estimates that this AD, if adopted as proposed, would affect 195 airplanes of U.S. registry. The FAA estimates the following costs to comply with this proposed AD:

Estimated Costs
Action | Labor cost | Parts cost | Cost per product | Cost on U.S. operators
HFEC inspections | 6 work-hours × $85 per hour = $510 per inspection cycle | $0 | $510 per inspection cycle | $99,450 per inspection cycle.
Internal and external HFEC inspections (Group 3 airplanes) | 3 work-hours × $85 per hour = $255 per inspection cycle | 0 | $255 per inspection cycle | $255 per inspection cycle. (1 airplane).

The FAA estimates the following costs to do any necessary repairs that would be required based on the results of the proposed inspection. The FAA has no way of determining the number of aircraft that might need these repairs:

On-Condition Costs
Action | Labor cost | Parts cost | Cost per product
Post-repair inspections | 6 work-hours × $85 per hour = $510 | $0 | $510 per inspection cycle.
Repair/Modification | 262 work-hours × $85 per hour = $22,270 | 0 | $22,270.

The FAA has received no definitive data on which to base the cost estimates for on-condition repairs for the post-repair inspections specified in this proposed AD.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2018-11-14, Amendment 39-19302 (83 FR 25885, June 5, 2018), and

b. Adding the following new AD:

The Boeing Company: Docket No. FAA-2026-0023; Project Identifier AD-2025-00427-T.

(a) Comments Due Date

The FAA must receive comments on this airworthiness directive (AD) by March 12, 2026.

(b) Affected ADs

This AD replaces AD 2018-11-14, Amendment 39-19302 (83 FR 25885, June 5, 2018) (AD 2018-11-14).

(c) Applicability

This AD applies to The Boeing Company Model 767-300 and -300F series airplanes, certificated in any category, as specified in paragraph 1.A.1 of Aviation Partners Boeing Service Bulletin AP767-57-010, Revision 14, dated November 17, 2025; and Aviation Partners Boeing Service Bulletin AP767-57-014, Revision 3, dated November 17, 2025.

(d) Subject

Air Transport Association (ATA) of America Code 57, Wings.

(e) Unsafe Condition

This AD was prompted by reports of fatigue cracking in the lower outboard wing skin at the inboard fastener of stringer L-9.5, and the lower outboard wing skin of stringer L-6.5, on airplanes with winglets installed per Supplemental Type Certificate ST01920SE. This AD was also prompted by a determination that, for certain airplanes, the area of the lower wing skin in the vicinity of the critical inboard end fasteners of installed repair doublers must be inspected. The FAA is issuing this AD to prevent fatigue cracking in the lower outboard wing skin. The unsafe condition, if not addressed, could result in failure and subsequent separation of the wing and winglet and consequent reduced controllability of the airplane.

(f) Compliance

Comply with this AD within the compliance times specified, unless already done.

(g) Retained Repetitive Stringer L-9.5 Inspections, Modification, Repair (Modification), Repetitive Post-Repair Inspections, and Repair, With Revised Service Information

This paragraph restates the requirements of paragraph (g) of AD 2018-11-14, with revised service information.

(1) For Group 1 and Group 2 airplanes, identified in Aviation Partners Boeing Service Bulletin AP767-57-010, Revision 11, dated April 3, 2017, with winglets installed: At the applicable time specified in paragraph 1.E., “Compliance,” of Aviation Partners Boeing Service Bulletin AP767-57-010, Revision 11, dated April 3, 2017, except as required by paragraph (j)(1) of this AD: Do a high frequency eddy current (HFEC) inspection for cracking of the lower outboard wing skin at stringer L-9.5, in accordance with Part 1 of the Accomplishment Instructions of Aviation Partners Boeing Service Bulletin AP767-57-010, Revision 11, dated April 3, 2017; or Revision 14, dated November 17, 2025. As of the effective date of this AD, only Aviation Partners Boeing Service Bulletin AP767-57-010, Revision 14, dated November 17, 2025, may be used for performing the actions required by this paragraph.

(i) For airplanes on which “Condition 1” is found, as defined in the Accomplishment Instructions of Aviation Partners Boeing Service Bulletin AP767-57-010, Revision 11, dated April 3, 2017, during any inspection required by paragraph (g)(1) or (g)(1)(i)(A) of this AD: Do the applicable actions required by paragraph (g)(1)(i)(A), (g)(1)(i)(B), (g)(1)(i)(C), or (g)(1)(i)(D) of this AD.

(A) Repeat the inspection specified in paragraph (g)(1) of this AD thereafter at the applicable times specified in paragraph 1.E., “Compliance,” of Aviation Partners Boeing Service Bulletin AP767-57-010, Revision 11, dated April 3, 2017.

(B) Do the applicable actions required by paragraphs (g)(1)(i)(B)(1), (g)(1)(i)(B)(2), and (g)(1)(i)(B)(3) of this AD.

(1) Before further flight, do actions (modifications and repair (modification)) in accordance with Part 2, Part 3, Part 4, and Part 5, as applicable, of the Accomplishment Instructions of Aviation Partners Boeing Service Bulletin AP767-57-010, Revision 11, dated April 3, 2017; or Revision 14, dated November 17, 2025. As of the effective date of this AD, only Aviation Partners Boeing Service Bulletin AP767-57-010, Revision 14, dated November 17, 2025, may be used for performing the actions required by this paragraph.

(2) For airplanes on which the repair (modification) specified in Part 5 of Aviation Partners Boeing Service Bulletin AP767-57-010 was done: At the applicable time specified in paragraph 1.E., “Compliance,” of Aviation Partners Boeing Service Bulletin AP767-57-010, Revision 11, dated April 3, 2017, do a post-repair HFEC inspection for cracking, in accordance with Part 12 of the Accomplishment Instructions of Aviation Partners Boeing Service Bulletin AP767-57-010, Revision 11, dated April 3, 2017; or Revision 14, dated November 17, 2025; and repeat the inspection thereafter at the applicable times specified in paragraph 1.E., “Compliance,” of Aviation Partners Boeing Service Bulletin AP767-57-010, Revision 11, dated April 3, 2017. As of the effective date of this AD, only Aviation Partners Boeing Service Bulletin AP767-57-010, Revision 14, dated November 17, 2025, may be used for performing the actions required by this paragraph.

(3) If any crack is found during any inspection required by paragraph (g)(1)(i)(B)(2) of this AD, repair before further flight using a method approved in accordance with the procedures specified in paragraph (q) of this AD.

(C) Do the actions required by paragraphs (g)(1)(i)(C)(1) and (g)(1)(i)(C)(2) of this AD, and do all applicable actions required by paragraph (g)(1)(i)(C)(3) of this AD.

(1) Before further flight, repair (modify) in accordance with Part 8 of the Accomplishment Instructions of Aviation Partners Boeing Service Bulletin AP767-57-010, Revision 11, dated April 3, 2017; or Revision 14, dated November 17, 2025. As of the effective date of this AD, only Aviation Partners Boeing Service Bulletin AP767-57-010, Revision 14, dated November 17, 2025, may be used for performing the actions required by this paragraph.

(2) At the applicable time specified in paragraph 1.E., “Compliance,” of Aviation Partners Boeing Service Bulletin AP767-57-010, Revision 11, dated April 3, 2017, do a post-repair HFEC inspection for cracking, in accordance with Part 9 of the Accomplishment Instructions of Aviation Partners Boeing Service Bulletin AP767-57-010, Revision 11, dated April 3, 2017; or Revision 14, dated November 17, 2025; and repeat the inspection thereafter at the applicable times specified in paragraph 1.E., “Compliance,” of Aviation Partners Boeing Service Bulletin AP767-57-010, Revision 11, dated April 3, 2017. As of the effective date of this AD, only Aviation Partners Boeing Service Bulletin AP767-57-010, Revision 14, dated November 17, 2025, may be used for performing the actions required by this paragraph.

(3) If any crack is found during any inspection required by paragraph (g)(1)(i)(C)(2) of this AD, repair before further flight using a method approved in accordance with the procedures specified in paragraph (q) of this AD.

(D) Do the actions required by paragraphs (g)(1)(i)(D)(1) and (g)(1)(i)(D)(2) of this AD, and do all applicable actions required by paragraph (g)(1)(i)(D)(3) of this AD.

(1) Before further flight, repair (modify) in accordance with Part 11 of the Accomplishment Instructions of Aviation Partners Boeing Service Bulletin AP767-57-010, Revision 11, dated April 3, 2017; or Revision 14, dated November 17, 2025. As of the effective date of this AD, only Aviation Partners Boeing Service Bulletin AP767-57-010, Revision 14, dated November 17, 2025, may be used for performing the actions required by this paragraph.

(2) At the applicable time specified in paragraph 1.E., “Compliance,” of Aviation Partners Boeing Service Bulletin AP767-57-010, Revision 11, dated April 3, 2017, do a post-repair HFEC inspection for cracking, in accordance with Part 13 of the Accomplishment Instructions of Aviation Partners Boeing Service Bulletin AP767-57-010, Revision 11, dated April 3, 2017; or Revision 14, dated November 17, 2025; and repeat the inspection thereafter at the applicable times specified in paragraph 1.E., “Compliance,” of Aviation Partners Boeing Service Bulletin AP767-57-010, Revision 11, dated April 3, 2017; except as required by paragraph (j)(4) of this AD. As of the effective date of this AD, only Aviation Partners Boeing Service Bulletin AP767-57-010, Revision 14, dated November 17, 2025, may be used for performing the actions required by this paragraph.

(3) If any crack is found during any inspection required by paragraph (g)(1)(i)(D)(2) of this AD, repair before further flight using a method approved in accordance with the procedures specified in paragraph (q) of this AD.

(ii) For airplanes on which “Condition 2” is found, as defined in the Accomplishment Instructions of Aviation Partners Boeing Service Bulletin AP767-57-010, Revision 11, dated April 3, 2017, during any inspection required by paragraph (g)(1) or (g)(1)(i)(A) of this AD: Do the actions required by paragraph (g)(1)(ii)(A) or (g)(1)(ii)(B) of this AD.

(A) Do the actions required by paragraphs (g)(1)(ii)(A)(1) and (g)(1)(ii)(A)(2) of this AD, and do all applicable actions required by paragraph (g)(1)(ii)(A)(3) of this AD.

(1) Before further flight, repair (modify) in accordance with Part 8 of the Accomplishment Instructions of Aviation Partners Boeing Service Bulletin AP767-57-010, Revision 11, dated April 3, 2017; or Revision 14, dated November 17, 2025. As of the effective date of this AD, only Aviation Partners Boeing Service Bulletin AP767-57-010, Revision 14, dated November 17, 2025, may be used for performing the actions required by this paragraph.

(2) At the applicable time specified in paragraph 1.E., “Compliance,” of Aviation Partners Boeing Service Bulletin AP767-57-010, Revision 11, dated April 3, 2017, do a post-repair HFEC inspection for cracking, in accordance with Part 9 of the Accomplishment Instructions of Aviation Partners Boeing Service Bulletin AP767-57-010, Revision 11, dated April 3, 2017; or Revision 14, dated November 17, 2025; and repeat the inspection thereafter at the applicable times specified in paragraph 1.E., “Compliance.” of Aviation Partners Boeing Service Bulletin AP767-57-010, Revision 11, dated April 3, 2017. As of the effective date of this AD, only Aviation Partners Boeing Service Bulletin AP767-57-010, Revision 14, dated November 17, 2025, may be used for performing the actions required by this paragraph.

(3) If any crack is found during any inspection required by paragraph (g)(1)(ii)(A)(2) of this AD, repair before further flight using a method approved in accordance with the procedures specified in paragraph (q) of this AD.

(B) Do the actions required by paragraphs (g)(1)(ii)(B)(1) and (g)(1)(ii)(B)(2) of this AD, and do all applicable actions required by paragraph (g)(1)(ii)(B)(3) of this AD.

(1) Before further flight, repair (modify) in accordance with Part 11 of the Accomplishment Instructions of Aviation Partners Boeing Service Bulletin AP767-57-010, Revision 11, dated April 3, 2017; or Revision 14, dated November 17, 2025. As of the effective date of this AD, only Aviation Partners Boeing Service Bulletin AP767-57-010, Revision 14, dated November 17, 2025, may be used for performing the actions required by this paragraph.

(2) At the applicable time specified in paragraph 1.E., “Compliance,” of Aviation Partners Boeing Service Bulletin AP767-57-010, Revision 11, dated April 3, 2017, do a post-repair HFEC inspection for cracking, in accordance with Part 13 of the Accomplishment Instructions of Aviation Partners Boeing Service Bulletin AP767-57-010, Revision 11, dated April 3, 2017; or Revision 14, dated November 17, 2025; and repeat the inspection thereafter at the applicable times specified in paragraph 1.E., “Compliance,” of Aviation Partners Boeing Service Bulletin AP767-57-010, Revision 11, dated April 3, 2017; except as required by paragraph (j)(4) of this AD. As of the effective date of this AD, only Aviation Partners Boeing Service Bulletin AP767-57-010, Revision 14, dated November 17, 2025, may be used for performing the actions required by this paragraph.

(3) If any crack is found during any inspection required by paragraph (g)(1)(ii)(B)(2) of this AD, repair before further flight using a method approved in accordance with the procedures specified in paragraph (q) of this AD.

(iii) For airplanes on which “Condition 3” is found, as defined in the Accomplishment Instructions of Aviation Partners Boeing Service Bulletin AP767-57-010, Revision 11, dated April 3, 2017, during the actions specified in paragraph (g)(1)(i)(B)(1) of this AD: Do the actions required by paragraph (g)(1)(iii)(A) or (g)(1)(iii)(B) of this AD.

(A) Do the actions required by paragraphs (g)(1)(iii)(A)(1) and (g)(1)(iii)(A)(2) of this AD, and do all applicable actions required by paragraph (g)(1)(iii)(A)(3) of this AD.

(1) Before further flight, repair (modify) in accordance with Part 8 of the Accomplishment Instructions of Aviation Partners Boeing Service Bulletin AP767-57-010, Revision 11, dated April 3, 2017; or Revision 14, dated November 17, 2025. As of the effective date of this AD, only Aviation Partners Boeing Service Bulletin AP767-57-010, Revision 14, dated November 17, 2025, may be used for performing the actions required by this paragraph.

(2) At the applicable time specified in paragraph 1.E., “Compliance,” of Aviation Partners Boeing Service Bulletin AP767-57-010, Revision 11, dated April 3, 2017, do a post-repair HFEC inspection for cracking, in accordance with Part 9 of the Accomplishment Instructions of Aviation Partners Boeing Service Bulletin AP767-57-010, Revision 11, dated April 3, 2017; or Revision 14, dated November 17, 2025; and repeat the inspection thereafter at the applicable times specified in paragraph 1.E., “Compliance,” of Aviation Partners Boeing Service Bulletin AP767-57-010, Revision 11, dated April 3, 2017. As of the effective date of this AD, only Aviation Partners Boeing Service Bulletin AP767-57-010, Revision 14, dated November 17, 2025, may be used for performing the actions required by this paragraph.

(3) If any crack is found during any inspection required by paragraph (g)(1)(iii)(A)(2) of this AD, repair before further flight using a method approved in accordance with the procedures specified in paragraph (q) of this AD.

(B) Do the actions required by paragraphs (g)(1)(iii)(B)(1) and (g)(1)(iii)(B)(2) of this AD, and do all applicable actions required by paragraph (g)(1)(iii)(B)(3) of this AD.

(1) Before further flight, repair (modify) in accordance with Part 11 of the Accomplishment Instructions of Aviation Partners Boeing Service Bulletin AP767-57-010, Revision 11, dated April 3, 2017; or Revision 14, dated November 17, 2025. As of the effective date of this AD, only Aviation Partners Boeing Service Bulletin AP767-57-010, Revision 14, dated November 17, 2025, may be used for performing the actions required by this paragraph.

(2) At the applicable time specified in paragraph 1.E., “Compliance,” of Aviation Partners Boeing Service Bulletin AP767-57-010, Revision 11, dated April 3, 2017, do a post-repair HFEC inspection for cracking, in accordance with Part 13 of the Accomplishment Instructions of Aviation Partners Boeing Service Bulletin AP767-57-010, Revision 11, dated April 3, 2017; or Revision 14, dated November 17, 2025; and repeat the inspection thereafter at the applicable times specified in paragraph 1.E., “Compliance,” of Aviation Partners Boeing Service Bulletin AP767-57-010, Revision 11, dated April 3, 2017; except as required by paragraph (j)(4) of this AD. As of the effective date of this AD, only Aviation Partners Boeing Service Bulletin AP767-57-010, Revision 14, dated November 17, 2025, may be used for performing the actions required by this paragraph.

(3) If any crack is found during any inspection required by paragraph (g)(1)(iii)(B)(2) of this AD, repair before further flight using a method approved in accordance with the procedures specified in paragraph (q) of this AD.

(iv) For airplanes on which “Condition 4” is found, as defined in the Accomplishment Instructions of Aviation Partners Boeing Service Bulletin AP767-57-010, Revision 11, dated April 3, 2017, during any action specified in paragraph (g)(1)(i)(C)(1), (g)(1)(i)(D)(1), (g)(1)(ii)(A)(1), (g)(1)(ii)(B)(1), (g)(1)(iii)(A)(1), and (g)(1)(iii)(B)(1) of this AD: Repair before further flight using a method approved in accordance with the procedures specified in paragraph (q) of this AD.

(2) For Group 3 airplanes, identified in Aviation Partners Boeing Service Bulletin AP767-57-010, Revision 11, dated April 3, 2017, with winglets installed: At the applicable time specified in paragraph 1.E., “Compliance” of Aviation Partners Boeing Service Bulletin AP767-57-010, Revision 11, dated April 3, 2017, or within 6 months after July 10, 2018 (the effective date of AD 2018-11-14), whichever occurs later, do an HFEC inspection for cracking of the lower outboard wing skin at stringer L-9.5, in accordance with Part 7 of the Accomplishment Instructions of Aviation Partners Boeing Service Bulletin AP767-57-010, Revision 11, dated April 3, 2017. Repeat the inspections thereafter at the applicable time specified in paragraph 1.E., “Compliance,” of Aviation Partners Boeing Service Bulletin AP767-57-010, Revision 11, dated April 3, 2017. If any cracking is found during any inspection, repair before further flight using a method approved in accordance with the procedures specified in paragraph (q) of this AD. An approved repair terminates the repetitive inspections required by paragraph (g)(2) of this AD for the repaired area only. Doing the initial inspections required by paragraph (k) of this AD terminates the inspections required by paragraph (g)(2) of this AD.

(3) Group 4 airplanes, identified in Aviation Partners Boeing Service Bulletin AP767-57-010, Revision 11, dated April 3, 2017, with winglets installed, are not affected by the actions required by paragraph (g) of this AD.

(h) Retained Repetitive Stringer L-6.5 Inspections, Repair (Modification), Repetitive Post-Repair Inspections, and Repair With No Changes

This paragraph restates the requirements of paragraph (h) of AD 2018-11-14, with no changes.

(1) For airplanes, identified in Aviation Partners Boeing Service Bulletin AP767-57-014, Revision 1, dated April 12, 2017, with winglets installed: At the applicable time specified in paragraph 1.E., “Compliance,” of Aviation Partners Boeing Service Bulletin AP767-57-014, Revision 1, dated April 12, 2017, except as required by paragraph (j)(2) of this AD: Do an HFEC inspection for cracking of stringer L-6.5 of the lower outboard wing skin, in accordance with Part 1 of Aviation Partners Boeing Service Bulletin AP767-57-014, Revision 1, dated April 12, 2017; or Aviation Partners Boeing Service Bulletin AP767-57-014, Revision 3, dated November 17, 2025. If no cracking is found, repeat the inspection thereafter at the applicable times specified in paragraph 1.E., “Compliance” of Aviation Partners Boeing Service Bulletin AP767-57-014, Revision 1, dated April 12, 2017, except as provided by paragraph (h)(3) of this AD. As of the effective date of this AD, only Aviation Partners Boeing Service Bulletin AP767-57-014, Revision 3, dated November 17, 2025, may be used for performing the actions required by this paragraph.

(2) If any crack is found during any inspection required by paragraph (h)(1) of this AD, do the actions required by paragraphs (h)(2)(i) and (h)(2)(ii) of this AD, and do all applicable actions required by paragraph (h)(2)(iii) of this AD.

(i) Before further flight, repair (modify) stringer L-6.5, in accordance with Part 2 of the Accomplishment Instructions of Aviation Partners Boeing Service Bulletin AP767-57-014, Revision 1, dated April 12, 2017; or Aviation Partners Boeing Service Bulletin AP767-57-014, Revision 3, dated November 17, 2025. As of the effective date of this AD, only Aviation Partners Boeing Service Bulletin AP767-57-014, Revision 3, dated November 17, 2025, may be used for performing the actions required by this paragraph.

(ii) Except as required by paragraph (j)(3) of this AD: At the applicable time specified in paragraph 1.E., “Compliance,” of Aviation Partners Boeing Service Bulletin AP767-57-014, Revision 1, dated April 12, 2017, except as required by paragraph (j)(2) of this AD, do an HFEC post-repair inspection for cracking, in accordance with Part 3 of the Accomplishment Instructions of Aviation Partners Boeing Service Bulletin AP767-57-014, Revision 1, dated April 12, 2017; or Aviation Partners Boeing Service Bulletin AP767-57-014, Revision 3, dated November 17, 2025, and repeat the inspection thereafter at the applicable times specified in paragraph 1.E., “Compliance,” of Aviation Partners Boeing Service Bulletin AP767-57-014, Revision 1, dated April 12, 2017. As of the effective date of this AD, only Aviation Partners Boeing Service Bulletin AP767-57-014, Revision 3, dated November 17, 2025, may be used for performing the actions required by this paragraph.

(iii) If any crack is found during any inspection required by paragraph (h)(2)(ii) of this AD, repair before further flight using a method approved in accordance with the procedures specified in paragraph (q) of this AD.

(3) As an option to the repetitive inspections required by paragraph (h)(1) of this AD, do the actions required by paragraphs (h)(3)(i) and (h)(3)(ii) of this AD, and do all applicable actions required by paragraph (h)(3)(iii) of this AD.

(i) Before further flight after accomplishing the most recent inspection required by paragraph (h)(1) of this AD, repair (modify) stringer L-6.5, in accordance with Part 2 of the Accomplishment Instructions of Aviation Partners Boeing Service Bulletin AP767-57-014, Revision 1, dated April 12, 2017; or Aviation Partners Boeing Service Bulletin AP767-57-014, Revision 3, dated November 17, 2025. As of the effective date of this AD, only Aviation Partners Boeing Service Bulletin AP767-57-014, Revision 3, dated November 17, 2025, may be used for performing the actions required by this paragraph.

(ii) Except as required by paragraph (j)(3) of this AD: At the applicable time specified in paragraph 1.E., “Compliance,” of Aviation Partners Boeing Service Bulletin AP767-57-014, Revision 1, dated April 12, 2017, except as required by paragraph (j)(2) of this AD, do a post-repair HFEC inspection for cracking, in accordance with Part 3 of the Accomplishment Instructions of Aviation Partners Boeing Service Bulletin AP767-57-014, Revision 1, dated April 12, 2017; or Aviation Partners Boeing Service Bulletin AP767-57-014, Revision 3, dated November 17, 2025, and repeat the inspection thereafter at the applicable times specified in paragraph 1.E., “Compliance,” of Aviation Partners Boeing Service Bulletin AP767-57-014, Revision 1, dated April 12, 2017. As of the effective date of this AD, only Aviation Partners Boeing Service Bulletin AP767-57-014, Revision 3, dated November 17, 2025, may be used for performing the actions required by this paragraph.

(iii) If any crack is found during any inspection required by paragraph (h)(3)(ii) of this AD, repair before further flight using a method approved in accordance with the procedures specified in paragraph (q) of this AD.

(i) Retained Repair Approval, With New Service Information References

This paragraph restates the repair approval specified in paragraph (i) of AD 2018-11-14, with new service information references. Repairs of the lower outboard wing skin that were approved after June 15, 2017, and before July 10, 2018 (the effective date of AD 2018-11-14), by the Boeing Commercial Airplanes Organization Designation Authorization (ODA) that has been authorized by the Manager, AIR-520, Continued Operational Safety Branch, FAA, are approved for the applicable repairs required by paragraphs (g) and (h) of this AD. The ODA repairs will have post installation inspection requirements in lieu of the post-inspection instructions specified in Aviation Partners Boeing Service Bulletin AP767-57-010, Revision 11, dated April 3, 2017; Aviation Partners Boeing Service Bulletin AP767-57-010, Revision 14, dated November 17, 2025; Aviation Partners Boeing Service Bulletin AP767-57-014, Revision 1, dated April 12, 2017; and Aviation Partners Boeing Service Bulletin AP767-57-014, Revision 3, dated November 17, 2025.

(j) Retained Exceptions to Service Information Specifications With No Changes

This paragraph retains the exceptions the exceptions specified in paragraph (j) of AD 2018-11-14, with no changes.

(1) Where paragraph 1.E., “Compliance,” of Aviation Partners Boeing Service Bulletin AP767-57-010, Revision 11, dated April 3, 2017, specifies a compliance time “after the issue date of Revision 11 of this service bulletin,” this AD requires compliance within the specified compliance time after July 10, 2018 (the effective date of AD 2018-11-14).

(2) Where paragraph 1.E., “Compliance,” of Aviation Partners Boeing Service Bulletin AP767-57-014, Revision 1, dated April 12, 2017, specifies a compliance time “after the initial issue date of this service bulletin”, this AD requires compliance within the specified compliance time after July 10, 2018 (the effective date of AD 2018-11-14).

(3) For Condition 1 and Condition 2 airplanes: Where paragraph 1.E., “Compliance,” of Aviation Partners Boeing Service Bulletin AP767-57-014, Revision 1, dated April 12, 2017, specifies a compliance time for accomplishing the Part 3 HFEC inspection of 18 months “after the initial issue date of this service bulletin”, the required compliance time is 6,000 flight cycles or 18,000 flight hours, whichever occurs first, after doing the Part 2 repair.

(4) For airplanes on which a stringer L-9.5 replacement was accomplished per Part 11 of Aviation Partners Boeing Service Bulletin AP767-57-010, Revision 11, dated April 3, 2017: Where Aviation Partners Boeing Service Bulletin AP767-57-010, Revision 11, dated April 3, 2017, specifies repeating the post-repair HFEC inspection “in Part 9,” this AD requires repeating the post-repair HFEC inspection in Part 13.

(k) New Requirements for Group 3 Airplanes

For Group 3 airplanes identified in Aviation Partners Boeing Service Bulletin AP767-57-010, Revision 14, dated November 17, 2025: At the applicable time specified in paragraph 1.E., “Compliance,” of Aviation Partners Boeing Service Bulletin AP767-57-010, Revision 14, dated November 17, 2025, or within 3,000 flight cycles after the effective date of this AD, whichever occurs later, do the initial internal and external HFEC inspections of the lower outboard wing skin common to the external doubler repair at stringer L-9.5, in accordance with Part 7 of the Accomplishment Instructions of Aviation Partners Boeing Service Bulletin AP767-57-010, Revision 14, dated November 17, 2025. Repeat the inspections thereafter at the applicable time specified in paragraph 1.E., “Compliance,” of Aviation Partners Boeing Service Bulletin AP767-57-010, Revision 14, dated November 17, 2025. If any cracking is found during any inspection, repair before further flight using a method approved in accordance with the procedures specified in paragraph (q) of this AD. Doing the initial inspections required by this paragraph terminates the inspections required by paragraph (g)(2) of this AD.

(l) New Repetitive Stringer L-9.5 Inspections, Modification, Repair (Modification), Repetitive Post-Repair Inspections, and Repair

(1) For Group 1 and Group 2 airplanes identified in Aviation Partners Boeing Service Bulletin AP767-57-010, Revision 14, dated November 17, 2025, without winglets installed: At the applicable time specified in paragraph 1.E., “Compliance,” of Aviation Partners Boeing Service Bulletin AP767-57-010, Revision 14, dated November 17, 2025, except as required by paragraph (o)(1) of this AD: Do a HFEC inspection for cracking of the lower outboard wing skin at stringer L-9.5, in accordance with Part 1 of the Accomplishment Instructions of Aviation Partners Boeing Service Bulletin AP767-57-010, Revision 14, dated November 17, 2025.

(i) For airplanes on which “Condition 1” is found, as defined in the Accomplishment Instructions of Aviation Partners Boeing Service Bulletin AP767-57-010, Revision 14, dated November 17, 2025, during any inspection required by paragraph (l)(1) or (l)(1)(i)(A) of this AD: Do the applicable actions required by paragraph (l)(1)(i)(A), (l)(1)(i)(B), (l)(1)(i)(C), or (l)(1)(i)(D) of this AD.

(A) Repeat the inspection specified in paragraph (l)(1) of this AD thereafter at the applicable times specified in paragraph 1.E., “Compliance,” of Aviation Partners Boeing Service Bulletin AP767-57-010, Revision 14, dated November 17, 2025.

(B) Do the applicable actions required by paragraphs (l)(1)(i)(B)(1), (l)(1)(i)(B)(2), and (l)(1)(i)(B)(3) of this AD.

(1) Before further flight, do actions (modifications and repair (modification)) in accordance with Part 2, Part 3, Part 4, and Part 5, as applicable, of the Accomplishment Instructions of Aviation Partners Boeing Service Bulletin AP767-57-010, Revision 14, dated November 17, 2025.

(2) For airplanes on which the repair (modification) specified in Part 5 of Aviation Partners Boeing Service Bulletin AP767-57-010 was done: At the applicable time specified in paragraph 1.E., “Compliance,” of Aviation Partners Boeing Service Bulletin AP767-57-010, Revision 14, dated November 17, 2025, do a post-repair HFEC inspection for cracking, in accordance with Part 12 of the Accomplishment Instructions of Aviation Partners Boeing Service Bulletin AP767-57-010, Revision 14, dated November 17, 2025; and repeat the inspection thereafter at the applicable times specified in paragraph 1.E., “Compliance,” of Aviation Partners Boeing Service Bulletin AP767-57-010, Revision 14, dated November 17, 2025.

(3) If any crack is found during any inspection required by paragraph (l)(1)(i)(B)(2) of this AD, repair before further flight using a method approved in accordance with the procedures specified in paragraph (q) of this AD.

(C) Do the actions required by paragraphs (l)(1)(i)(C)(1) and (l)(1)(i)(C)(2) of this AD, and do all applicable actions required by paragraph (l)(1)(i)(C)(3) of this AD.

(1) Before further flight, repair (modify) in accordance with Part 8 of the Accomplishment Instructions of Aviation Partners Boeing Service Bulletin AP767-57-010, Revision 14, dated November 17, 2025.

(2) At the applicable time specified in paragraph 1.E., “Compliance,” of Aviation Partners Boeing Service Bulletin AP767-57-010, Revision 14, dated November 17, 2025, do a post-repair HFEC inspection for cracking, in accordance with Part 9 of the Accomplishment Instructions of Aviation Partners Boeing Service Bulletin AP767-57-010, Revision 14, dated November 17, 2025; and repeat the inspection thereafter at the applicable times specified in paragraph 1.E., “Compliance,” of Aviation Partners Boeing Service Bulletin AP767-57-010, Revision 14, dated November 17, 2025.

(3) If any crack is found during any inspection required by paragraph (l)(1)(i)(C)(2) of this AD, repair before further flight using a method approved in accordance with the procedures specified in paragraph (q) of this AD.

(D) Do the actions required by paragraphs (l)(1)(i)(D)(1) and (l)(1)(i)(D)(2) of this AD, and do all applicable actions required by paragraph (l)(1)(i)(D)(3) of this AD.

(1) Before further flight, repair (modify) in accordance with Part 11 of the Accomplishment Instructions of Aviation Partners Boeing Service Bulletin AP767-57-010, Revision 14, dated November 17, 2025.

(2) At the applicable time specified in paragraph 1.E., “Compliance,” of Aviation Partners Boeing Service Bulletin AP767-57-010, Revision 14, dated November 17, 2025, do a post-repair HFEC inspection for cracking, in accordance with Part 13 of the Accomplishment Instructions of Aviation Partners Boeing Service Bulletin AP767-57-010, Revision 14, dated November 17, 2025; and repeat the inspection thereafter at the applicable times specified in paragraph 1.E., “Compliance,” of Aviation Partners Boeing Service Bulletin AP767-57-010, Revision 14, dated November 17, 2025.

(3) If any crack is found during any inspection required by paragraph (l)(1)(i)(D)(2) of this AD, repair before further flight using a method approved in accordance with the procedures specified in paragraph (q) of this AD.

(ii) For airplanes on which “Condition 2” is found, as defined in the Accomplishment Instructions of Aviation Partners Boeing Service Bulletin AP767-57-010, Revision 14, dated November 17, 2025, during any inspection required by paragraph (l)(1) or (l)(1)(i)(A) of this AD: Do the actions required by paragraph (l)(1)(ii)(A) or (l)(1)(ii)(B) of this AD.

(A) Do the actions required by paragraphs (l)(1)(ii)(A)(1) and (l)(1)(ii)(A)(2) of this AD, and do all applicable actions required by paragraph (l)(1)(ii)(A)(3) of this AD.

(1) Before further flight, repair (modify) in accordance with Part 8 of the Accomplishment Instructions of Aviation Partners Boeing Service Bulletin AP767-57-010, Revision 14, dated November 17, 2025.

(2) At the applicable time specified in paragraph 1.E., “Compliance,” of Aviation Partners Boeing Service Bulletin AP767-57-010, Revision 14, dated November 17, 2025, do a post-repair HFEC inspection for cracking, in accordance with Part 9 of the Accomplishment Instructions of Aviation Partners Boeing Service Bulletin AP767-57-010, Revision 14, dated November 17, 2025; and repeat the inspection thereafter at the applicable times specified in paragraph 1.E., “Compliance.” of Aviation Partners Boeing Service Bulletin AP767-57-010, Revision 14, dated November 17, 2025.

(3) If any crack is found during any inspection required by paragraph (l)(1)(ii)(A)(2) of this AD, repair before further flight using a method approved in accordance with the procedures specified in paragraph (q) of this AD.

(B) Do the actions required by paragraphs (l)(1)(ii)(B)(1) and (l)(1)(ii)(B)(2) of this AD, and do all applicable actions required by paragraph (l)(1)(ii)(B)(3) of this AD.

(1) Before further flight, repair (modify) in accordance with Part 11 of the Accomplishment Instructions of Aviation Partners Boeing Service Bulletin AP767-57-010, Revision 14, dated November 17, 2025.

(2) At the applicable time specified in paragraph 1.E., “Compliance,” of Aviation Partners Boeing Service Bulletin AP767-57-010, Revision 14, dated November 17, 2025, do a post-repair HFEC inspection for cracking, in accordance with Part 13 of the Accomplishment Instructions of Aviation Partners Boeing Service Bulletin AP767-57-010, Revision 14, dated November 17, 2025; and repeat the inspection thereafter at the applicable times specified in paragraph 1.E., “Compliance,” of Aviation Partners Boeing Service Bulletin AP767-57-010, Revision 14, dated November 17, 2025.

(3) If any crack is found during any inspection required by paragraph (l)(1)(ii)(B)(2) of this AD, repair before further flight using a method approved in accordance with the procedures specified in paragraph (q) of this AD.

(iii) For airplanes on which “Condition 3” is found, as defined in the Accomplishment Instructions of Aviation Partners Boeing Service Bulletin AP767-57-010, Revision 14, dated November 17, 2025, during the actions specified in paragraph (l)(1)(i)(B)(1) of this AD: Do the actions required by paragraph (l)(1)(iii)(A) or (l)(1)(iii)(B) of this AD.

(A) Do the actions required by paragraphs (l)(1)(iii)(A)(1) and (l)(1)(iii)(A)(2) of this AD, and do all applicable actions required by paragraph (l)(1)(iii)(A)(3) of this AD.

(1) Before further flight, repair (modify) in accordance with Part 8 of the Accomplishment Instructions of Aviation Partners Boeing Service Bulletin AP767-57-010, Revision 14, dated November 17, 2025.

(2) At the applicable time specified in paragraph 1.E., “Compliance,” of Aviation Partners Boeing Service Bulletin AP767-57-010, Revision 14, dated November 17, 2025, do a post-repair HFEC inspection for cracking, in accordance with Part 9 of the Accomplishment Instructions of Aviation Partners Boeing Service Bulletin AP767-57-010, Revision 14, dated November 17, 2025; and repeat the inspection thereafter at the applicable times specified in paragraph 1.E., “Compliance,” of Aviation Partners Boeing Service Bulletin AP767-57-010, Revision 14, dated November 17, 2025.

(3) If any crack is found during any inspection required by paragraph (l)(1)(iii)(A)(2) of this AD, repair before further flight using a method approved in accordance with the procedures specified in paragraph (q) of this AD.

(B) Do the actions required by paragraphs (l)(1)(iii)(B)(1) and (l)(1)(iii)(B)(2) of this AD, and do all applicable actions required by paragraph (l)(1)(iii)(B)(3) of this AD.

(1) Before further flight, repair (modify) in accordance with Part 11 of the Accomplishment Instructions of Aviation Partners Boeing Service Bulletin AP767-57-010, Revision 14, dated November 17, 2025.

(2) At the applicable time specified in paragraph 1.E., “Compliance,” of Aviation Partners Boeing Service Bulletin AP767-57-010, Revision 14, dated November 17, 2025, do a post-repair HFEC inspection for cracking, in accordance with Part 13 of the Accomplishment Instructions of Aviation Partners Boeing Service Bulletin AP767-57-010, Revision 14, dated November 17, 2025; and repeat the inspection thereafter at the applicable times specified in paragraph 1.E., “Compliance,” of Aviation Partners Boeing Service Bulletin AP767-57-010, Revision 14, dated November 17, 2025.

(3) If any crack is found during any inspection required by paragraph (l)(1)(iii)(B)(2) of this AD, repair before further flight using a method approved in accordance with the procedures specified in paragraph (q) of this AD.

(iv) For airplanes on which “Condition 4” is found, as defined in the Accomplishment Instructions of Aviation Partners Boeing Service Bulletin AP767-57-010, Revision 14, dated November 17, 2025, during any action specified in paragraph (l)(1)(i)(C)(1), (l)(1)(i)(D)(1), (l)(1)(ii)(A)(1), (l)(1)(ii)(B)(1), (l)(1)(iii)(A)(1), and (l)(1)(iii)(B)(1) of this AD: Repair before further flight using a method approved in accordance with the procedures specified in paragraph (q) of this AD.

(2) Group 4 airplanes identified in Aviation Partners Boeing Service Bulletin AP767-57-010, Revision 14, dated November 17, 2025, without winglets installed, are not affected by the actions required by paragraph (l) of this AD.

(m) New Repetitive Stringer L-6.5 Inspections, Repair (Modification), Repetitive Post-Repair Inspections, and Repair

(1) For airplanes identified in Aviation Partners Boeing Service Bulletin AP767-57-014, Revision 3, dated November 17, 2025, without winglets installed: At the applicable time specified in paragraph 1.E., “Compliance,” of Aviation Partners Boeing Service Bulletin AP767-57-014, Revision 3, dated November 17, 2025, except as required by paragraph (o)(2) of this AD: Do an HFEC inspection for cracking of stringer L-6.5 of the lower outboard wing skin, in accordance with Part 1 of Aviation Partners Boeing Service Bulletin AP767-57-014, Revision 3, dated November 17, 2025. If no cracking is found, repeat the inspection thereafter at the applicable times specified in paragraph 1.E., “Compliance” of Aviation Partners Boeing Service Bulletin AP767-57-014, Revision 3, dated November 17, 2025, except as provided by paragraph (o)(3) of this AD.

(2) If any crack is found during any inspection required by paragraph (m)(1) of this AD, do the actions required by paragraphs (m)(2)(i) and (m)(2)(ii) of this AD, and do all applicable actions required by paragraph (m)(2)(iii) of this AD.

(i) Before further flight, repair (modify) stringer L-6.5, in accordance with Part 2 of the Accomplishment Instructions of Aviation Partners Boeing Service Bulletin AP767-57-014, Revision 3, dated November 17, 2025.

(ii) Except as required by paragraph (o)(3) of this AD At the applicable time specified in paragraph 1.E., “Compliance,” of Aviation Partners Boeing Service Bulletin AP767-57-014, Revision 3, dated November 17, 2025, except as required by paragraph (o)(2) of this AD, do an HFEC post-repair inspection for cracking, in accordance with Part 3 of the Accomplishment Instructions of Aviation Partners Boeing Service Bulletin AP767-57-014, Revision 3, dated November 17, 2025, and repeat the inspection thereafter at the applicable times specified in paragraph 1.E., “Compliance,” of Aviation Partners Boeing Service Bulletin AP767-57-014, Revision 3, dated November 17, 2025.

(iii) If any crack is found during any inspection required by paragraph (m)(2)(ii) of this AD, repair before further flight using a method approved in accordance with the procedures specified in paragraph (q) of this AD.

(3) As an option to the repetitive inspections required by paragraph (m)(1) of this AD, do the actions required by paragraphs (m)(3)(i) and (m)(2)(ii) of this AD, and do all applicable actions required by paragraph (m)(3)(iii) of this AD.

(i) Before further flight after accomplishing the most recent inspection required by paragraph (m)(1) of this AD, repair (modify) stringer L-6.5, in accordance with Part 2 of the Accomplishment Instructions of Aviation Partners Boeing Service Bulletin AP767-57-014, Revision 3, dated November 17, 2025.

(ii) Except as required by paragraph (o)(3) of this AD At the applicable time specified in paragraph 1.E., “Compliance,” of Aviation Partners Boeing Service Bulletin AP767-57-014, Revision 3, dated November 17, 2025, except as required by paragraph (o)(2) of this AD, do a post-repair HFEC inspection for cracking, in accordance with Part 3 of the Accomplishment Instructions of Aviation Partners Boeing Service Bulletin AP767-57-014, Revision 3, dated November 17, 2025, and repeat the inspection thereafter at the applicable times specified in paragraph 1.E., “Compliance,” of Aviation Partners Boeing Service Bulletin AP767-57-014, Revision 3, dated November 17, 2025.

(iii) If any crack is found during any inspection required by paragraph (m)(3)(ii) of this AD, repair before further flight using a method approved in accordance with the procedures specified in paragraph (q) of this AD.

(n) Repair Approval for Paragraphs (l) and (m) of This AD

Repairs of the lower outboard wing skin that were approved after June 15, 2017, and before July 10, 2018 (the effective date of AD 2018-11-14), by the Boeing Commercial Airplanes Organization Designation Authorization (ODA) that has been authorized by the Manager, AIR-520, Continued Operational Safety Branch, FAA, are approved for the applicable repairs required by paragraphs (l) and (m) of this AD. The ODA repairs will have post installation inspection requirements in lieu of the post-inspection instructions specified in Aviation Partners Boeing Service Bulletin AP767-57-010, Revision 14, dated November 17, 2025; and Aviation Partners Boeing Service Bulletin AP767-57-014, Revision 3, dated November 17, 2025.

(o) New Exceptions to Service Information Specifications

(1) Where paragraph 1.E., “Compliance,” of Aviation Partners Boeing Service Bulletin AP767-57-010, Revision 14, dated November 17, 2025, specifies a compliance time “the effective date of AD 2018-11-14,” this AD requires compliance within the specified compliance time after the effective date of this AD.

(2) Where paragraph 1.E., “Compliance,” of Aviation Partners Boeing Service Bulletin AP767-57-014, Revision 3, dated November 17, 2025, specifies a compliance time “Within 18 months after the effective date of AD 2018-11-14”, this AD requires compliance within the specified compliance time after the effective date of this AD.

(p) Credit for Previous Actions

(1) This paragraph provides credit for the actions specified in paragraph (g) of this AD, if those actions were performed before the effective date of this AD using Aviation Partners Boeing Service Bulletin AP767-57-010, Revision 12, dated June 21, 2018; or Aviation Partners Boeing Service Bulletin AP767-57-010, Revision 13, dated November 5, 2024.

(2) This paragraph provides credit for the actions specified in paragraph (h) of this AD, if those actions were performed before the effective date of this AD using Aviation Partners Boeing Service Bulletin AP767-57-014, Revision 2, dated July 9, 2018.

(3) This paragraph provides credit for the actions specified in paragraph (k) of this AD, if those actions were performed before the effective date of this AD using Aviation Partners Boeing Service Bulletin AP767-57-010, Revision 13, dated November 5, 2024.

(4) For Group 1 and 2 airplanes identified in Aviation Partners Boeing Service Bulletin AP767-57-010, Revision 14, dated November 17, 2025: This paragraph provides credit for the actions specified in paragraph (l) of this AD, if those actions were performed before the effective date of this AD using Aviation Partners Boeing Service Bulletin AP767-57-010, Revision 11, dated April 3, 2017; Aviation Partners Boeing Service Bulletin AP767-57-010, Revision 12, dated June 21, 2018; or Aviation Partners Boeing Service Bulletin AP767-57-010, Revision 13, dated November 5, 2024.

(5) This paragraph provides credit for the actions specified in paragraph (m) of this AD, if those actions were performed before the effective date of this AD using Aviation Partners Boeing Service Bulletin AP767-57-014, Revision 1, dated April 12, 2017; or Aviation Partners Boeing Service Bulletin AP767-57-014, Revision 2, dated July 9, 2018.

(q) Alternative Methods of Compliance (AMOCs)

(1) The Manager, AIR-770, West Certification Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (r) of this AD. Information may be emailed to: AMOC@faa.gov. Before using any approved AMOC, notify your appropriate principal inspector, or lacking a principal inspector, the manager of the responsible Flight Standards Office.

(2) An AMOC that provides an acceptable level of safety may be used for any repair, modification, or alteration required by this AD if it is approved by The Boeing Company Organization Designation Authorization (ODA) that has been authorized by the Manager, AIR-770, West Certification Branch, FAA, to make those findings. To be approved, the repair method, modification deviation, or alteration deviation must meet the certification basis of the airplane, and the approval must specifically refer to this AD.

(3) AMOCs approved for AD 2018-11-14 are approved as AMOCs for the corresponding provisions of paragraphs (g) and (h) of this AD.

(4) Except as required by paragraphs (g)(1)(i)(B)(3), (g)(1)(i)(C)(3), (g)(1)(i)(D)(3), (g)(1)(ii)(A)(3), (g)(1)(ii)(B)(3), (g)(1)(iii)(A)(3), (g)(1)(iii)(B)(3), (g)(1)(iv), (g)(2), (h)(2)(iii), (h)(3)(iii), (k), (l)(1)(i)(B)(3), (l)(1)(i)(C)(3), (l)(1)(i)(D)(3), (l)(1)(ii)(A)(3), (l)(1)(ii)(B)(3), (l)(1)(iii)(A)(3), (l)(1)(iii)(B)(3), (l)(1)(iv), (l)(2), (m)(2)(iii), and (m)(3)(iii), of this AD: For material that contains steps that are labeled as Required for Compliance (RC), the provisions of paragraphs (q)(4)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(r) Related Information

For more information about this AD, contact Sarah Illg, Aviation Safety Engineer, FAA, 3960 Paramount Boulevard, Lakewood, CA 90712; phone: 206-231-3517; email: Sarah.A.Illg@faa.gov.

(s) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on [DATE 35 DAYS AFTER PUBLICATION OF THE FINAL RULE].

(i) Aviation Partners Boeing Service Bulletin AP767-57-010, Revision 14, dated November 17, 2025.

(ii) Aviation Partners Boeing Service Bulletin AP767-57-014, Revision 3, dated November 17, 2025.

(4) The following material was approved for IBR on July 10, 2018 (83 FR 25885, June 5, 2018).

(i) Aviation Partners Boeing Service Bulletin AP767-57-010, Revision 11, dated April 3, 2017.

(ii) Aviation Partners Boeing Service Bulletin AP767-57-014, Revision 1, dated April 12, 2017.

(5) For Aviation Partners Boeing material identified in this AD, contact Aviation Partners Boeing, 2811 South 102nd St., Suite 200, Seattle, WA 98168; telephone 206-830-7699; email certification@aviationpartners.com; website aviationpartnersboeing.com.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Issued on January 21, 2026.
Peter A. White,
Deputy Director, Integrated Certificate Management Division, Aircraft Certification Service.

[FR Doc. 2026-01370 Filed 1-23-26; 8:45 am]

BILLING CODE 4910-13-P